DEPARTMENT OF THE INTERIOR

National Park Service

[NPS-NCR-NACA-11375; 3086-SYM]

Notice of Meeting, National Capital Memorial Advisory Commission

AGENCY: National Park Service, Interior.

ACTION: Notice of meeting.

SUMMARY: Notice is hereby given that the National Capital Memorial Advisory Commission (the Commission) will meet at the National Building Museum, Room 312, 401 F Street NW., Washington, DC 20001, on Wednesday, November 7, 2012, at 1:00 p.m., to consider matters pertaining to commemorative works in the District of Columbia and its environs.

DATES: Wednesday, November 7, 2012.

ADDRESSES: The National Building Museum, Room 312, 401 F Street NW., Washington, DC 20001.

FOR FURTHER INFORMATION CONTACT: Ms. Nancy Young, Secretary to the Commission, by telephone at (202) 619-7097, by email at nancy_young@nps.gov, by telefax at (202) 619-7420, or by mail at the National Capital Memorial Advisory Commission, 1100 Ohio Drive SW., Room 220, Washington, DC 20242. Information is also available at the Commission's Web site, http://parkplanning.nps.gov/ncmac.

SUPPLEMENTARY INFORMATION: The Commission was established by Public Law 99-652, the Commemorative Works Act (40 U.S.C. Chapter 89 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service

Administrator, General Services Administration

Chairman, National Capital Planning Commission

Chairman, Commission of Fine Arts

Mayor of the District of Columbia

Architect of the Capitol

Chairman, American Battle Monuments Commission

Secretary of Defense

The Commission will consider:

(1) Legislation under Consideration in the 112th Congress:

(a) S. 3548, Native American Veterans' Memorial amendments

(b) H.R. 5914, National Desert Storm & Desert Shield Memorial

(c) H.R. 6077, Rachel Carson Nature Trail Designation

(d) H.R. 6291, Vietnam Veterans Memorial Center Donor Contribution Recognition

(2) Approval of National Capital Memorial Advisory Commission Operational Bylaws.

(3) Other Business.

The meeting will begin at 1:00 p.m. and is open to the public. Persons who wish to file a written statement or testify at the meeting or who want further information concerning the meeting may contact Ms. Nancy Young, Secretary to the Commission. Before including your address, phone number, email address, or other personal identifying information in your comment, you should be aware that your entire comment—including your personal identifying information—may be made publicly available at any time. While you can ask us in your comment to withhold your personal identifying information from public review, we cannot guarantee that we will be able to do so.

Dated: October 1, 2012.
Lisa Mendelson-Ielmini,
Acting Regional Director, National Capital Region.

[FR Doc. 2012-25415 Filed 10-15-12; 8:45 am]

BILLING CODE 4310-DL-P